NUCLEAR REGULATORY COMMISSION

10 CFR Part 26

[Docket No. PRM-26-4; NRC-2010-0269]

Petition for Rulemaking Submitted by the California Association of Marriage and Family Therapists

AGENCY: Nuclear Regulatory Commission.

ACTION: Petition for rulemaking: consideration in the rulemaking process.

SUMMARY: The U.S. Nuclear Regulatory Commission (NRC) has decided to consider in a rulemaking the issues raised in a petition for rulemaking (PRM) submitted by Ms. Mary Riemersma, on behalf of the California Association of Marriage and Family Therapists (the petitioner) (Docket ID PRM-26-4, NRC-2010-0269). The petitioner asked the NRC to amend the regulations at Title 10 of the Code of Federal Regulations (10 CFR) 26.187(b) to add marriage and family therapists as substance abuse experts.

ADDRESSES: Further NRC action on the issues raised by this petition can be found on the Federal rulemaking Web site at http://www.regulations.gov by searching on Docket ID: NRC-2011-0137 which is the identification for the future rulemaking.

You can access publicly available documents related to the petition using the following methods:

• The NRC's Public Document Room (PDR). The public may examine and have copied, for a fee, publicly available documents at the NRC's PDR, Room O1-F21, One White Flint North, 11555 Rockville Pike, Rockville, MD 20852.

• The NRC's Agencywide Documents Access and Management System (ADAMS). Publicly available documents created or received at the NRC are available electronically at the NRC Library at http://www.nrc.gov/reading-rm/adams.html. From this page, the public can access ADAMS to obtain text and image files of the NRC's public documents. If you do not have access to ADAMS or if you have problems accessing the documents located in ADAMS, contact the NRC's PDR reference staff by telephone at 1-800-397-4209 or 301-415-4737 or by e-mail to PDR.Resource@nrc.gov.

• Federal Rulemaking Web Site. Public comments and supporting materials related to this petition can be found at http://www.regulations.gov by searching on the rulemaking Docket ID PRM-26-4, NRC-2010-0269. Address questions about NRC dockets to Carol Gallagher by telephone at 301-492-3668 or by e-mail to carol.gallagher@nrc.gov.

FOR FURTHER INFORMATION CONTACT: Anthony W. Markley, Office of Nuclear Reactor Regulation, U.S. Nuclear Regulatory Commission, Washington, DC 20555-0001, telephone: 301-415-3165, e-mail to anthony.markley@nrc.gov.

SUPPLEMENTARY INFORMATION: On August 24, 2010 (75 FR 51958), the NRC published a notice of receipt of a PRM filed by the California Association of Marriage and Family Therapists and a request for public comment. The comment period closed on November 8, 2010, and the NRC received no comments.

The NRC determined that the issues raised in PRM-26-4 are appropriate for consideration and will address them in a future rulemaking. Docket ID PRM-26-4 is closed.

Dated at Rockville, Maryland, this 14th day of July 2011.
For the Nuclear Regulatory Commission.
Darren B. Ash,
Acting Executive Director for Operations.

[FR Doc. 2011-19639 Filed 8-2-11; 8:45 am]

BILLING CODE 7590-01-P